ENVIRONMENTAL PROTECTION AGENCY

[FRL-6951-3]

Good Neighbor Environmental Board Meeting

AGENCY: Environmental Protection Agency (EPA).

ACTION: Notice of meeting.

SUMMARY: The next meeting of the Good Neighbor Environmental Board, a federal advisory committee that reports to the President and Congress on environmental and infrastructure projects along the U.S. border with Mexico, will take place March 21-22 in Yuma, Arizona. The meeting is open to the public. It is the first of three committee meetings that will take place along the border during 2001.

ADDRESSES: The meeting will take place at the Shilo Inn and Conference Center, 1550 Castle Dome Road, Yuma, Arizona.

Agenda: During the morning of March 21, the Board will hear from several invited speakers on the use of pesticides in the U.S.-Mexico border region; topics will include farmworker education, institutional responsibilities, the Colorado River toxics study, and others. These presentations will be followed by a public comment session during which attendees will be encouraged to speak about their own concerns and priorities for their communities as well as the wider border region.

Following lunch, the meeting will continue with report-outs from Board members on recent developments within their respective organizations and in other institutions in the United States and Mexico that have border-region programs. After these report-outs, the Board has invited a representative from the U.S.-Mexico Border Health Commission to give a status report on the Commission's activities and plans. The balance of the day, as well as the following day, primarily will be devoted to ongoing Board business such as strengthening outreach and preparations for its next advisory report. The meeting ends at noon on March 22.

Public Attendance: The public is welcome to attend all portions of the meeting. Members of the public who plan to file written statements and/or make brief oral statements at the public comment session on the morning of March 21 are encouraged to contact the Designated Federal Officer for the Board prior to the meeting.

Background: The Good Neighbor Environmental Board was created by the Enterprise for the Americans Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The Board meets three times annually, primarily in various border locations. The U.S. Environmental Protection Agency gives notice of this meeting of the Good Neighbor Environmental Board pursuant to the Federal Advisory Committee Act (Public Law 92-463).

FOR FURTHER INFORMATION CONTACT: Elaine M. Koerner, Designated Federal Officer for the Good Neighbor Environmental Board, Office of Cooperative Environmental Management, Office of the Administrator, USEPA, MC1601A, 1200 Pennsylvania Ave. NW., Washington, DC 20004, (202) 564-1484, koerner.elaine@epa.gov.

Dated: February 26, 2001.
Timothy O. Sherer,
Acting Deputy Director, Office of Cooperative Environmental Management.

[FR Doc. 01-5572 Filed 3-6-01; 8:45 am]

BILLING CODE 6560-50-P